DEPARTMENT OF LABOR

Employment and Training Administration

Determinations Regarding Eligiblity To Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of September 1, 2021 through September 30, 2021.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Revised Determinations on remand from the Court of International Trade, and Negative Determinations on remand from the Court of International Trade.

Affirmative Determinations for Trade Adjustment Assistance

The following certifications have been issued.

TA-W No. | Subject firm | Location | Reason(s)
95,840 | Northwest Hardwoods, Inc | Garibaldi, OR | Company Imports of Articles.
96,661 | Aptiv | Kokomo, IN | Shift in Services to a Foreign Country.
96,851 | CF&I Steel LP d/b/a Evraz Rocky Mountain Steel | Pueblo, CO | Customer Imports of Articles.
96,869 | Pitney Bowes Inc | Shelton, CT | Shift in Services to a Foreign Country.
96,869A | Pitney Bowes Inc | Tampa, FL | Shift in Services to a Foreign Country.
96,869B | Pitney Bowes Inc | Omaha, NE | Shift in Services to a Foreign Country.
96,869C | Pitney Bowes Inc | Troy, NY | Shift in Services to a Foreign Country.
96,869D | Pitney Bowes Inc | Guaynabo, PR | Shift in Services to a Foreign Country.
96,916 | DAK Americas LLC | Moncks Corner, SC | Company Imports of Articles.
96,927 | Mitsubishi Aircraft Corporation America Inc | Renton, WA | Shift in Services to a Foreign Country.
96,927A | Mitsubishi Aircraft Corporation America Inc | Moses Lake, WA | Shift in Services to a Foreign Country.
96,953 | SSB Manufacturing Company | Monroe, OH | ITC Determination.
96,978 | Technicolor USA, Inc | Culver City, CA | Acquisition of Services from a Foreign Country.
96,986 | SSB Manufacturing Company | Kapolei, HI | ITC Determination.
96,988 | FXI, Inc | Portland, OR | ITC Determination.
96,996 | Lear Corporation | Morristown, TN | Shift in Production to a Foreign Country.
96,998 | Clearwater Paper Company | Neenah, WI | Customer Imports of Articles.
97,035 | Solenis LLC | Wilmington, DE | Shift in Services to a Foreign Country.
97,038 | Estee Bedding Company | Chicago, IL | ITC Determination.
97,056 | Trizetto Provider Solutions, LLC | Earth City, MO | Shift in Services to a Foreign Country.
97,066 | Allstate Insurance Company | Largo, FL | Shift in Services to a Foreign Country.
97,072 | Cerner Corporation | Kansas City, MO | Shift in Services to a Foreign Country.
97,095 | Alexian Brothers—AHS Midwest Region Health Co. d/b/a AMITA Health | Lisle, IL | Acquisition of Services from a Foreign Country.
97,099 | Alexian Brothers-AHS Midwest Region Health Co. d/b/a AMITH Health | Chicago, IL | Acquisition of Services from a Foreign Country.
97,103 | Serta Simmons Bedding Manufacturing Company | Shawnee, KS | ITC Determination.
97,107 | Foot Locker Corporate Services, Inc | Milwaukee, WI | Acquisition of Services from a Foreign Country.
97,109 | Global Plastics, Inc | Perris, CA | ITC Determination.
97,112 | PolymerPak | Vernon, CA | ITC Determination.
98,001 | Blue Cube Operations LLC | Freeport, TX | Actual/Likely Increase in Imports following a Shift Abroad.
98,007 | Cubic ITS, Inc. (fka Trafficware) | Sugar Land, TX | Shift in Production to an FTA Country or Beneficiary.
98,009 | Core Molding Technologies | Batavia, OH | Shift in Production to an FTA Country or Beneficiary.
98,010 | Rawlings Sporting Goods Company Inc | Caledonia, MN | Actual/Likely Increase in Imports following a Shift Abroad.
98,017 | FujiFilm Manufacturing USA Inc | Greenwood, SC | Shift in Production to an FTA Country or Beneficiary.
98,023 | Honeywell Building Technologies—Fire & Security, Integrated Supply Chain | Northford, CT | Increased Company Imports.
98,028 | Interdyne, Inc | Jonesville, MI | Secondary Component Supplier.
98,030 | The Coleman Company Inc | Sauk Rapids, MN | Actual/Likely Increase in Imports following a Shift Abroad.
98,032 | Fall Creek Farm & Nursery, Inc | Lowell, OR | Shift in Production to an FTA Country or Beneficiary.
98,037 | Truck Accessories Group, LLC | Long Beach, CA | Shift in Production to an FTA Country or Beneficiary.
98,040 | Honeywell Aerospace | Phoenix, AZ | Shift in Production to an FTA Country or Beneficiary.

Negative Determinations for Trade Adjustment Assistance

The following investigations revealed that the eligibility criteria for TAA have not been met for the reason(s) specified.

TA-W No. | Subject firm | Location | Reason(s)
95,710 | United Healthcare Clinical Review | Shelton, CT | No Shift in Services or Other Basis.
96,806 | B & R Sheet Metal, Inc | Eugene, OR | No Shift in Production or Other Basis.
96,807 | Transco Industries | Portland, OR | No Sales or Service Decline or Other Basis.
96,846 | Patriot Converting LLC | Newton, IA | No Sales or Production Decline or Other Basis.
96,887 | Landis+Gyr Technology, Inc | Saint Louis, MO | No Shift in Services or Other Basis.
96,921 | Siemens Gamesa Renewable Energy | Hutchinson, KS | No Sales or Production Decline or Other Basis.
96,959 | Highly Marelli USA, Inc | Madison, MS | No Shift in Production or Other Basis.
97,007 | T-Mobile USA, Inc | Honolulu, HI | No Shift in Services or Other Basis.
97,013 | Hilcorp Alaska LLC | Prudhoe Bay, AK | No Employment Decline or Threat of Separation or ITC.
97,040 | Cummins, Inc | Memphis, TN | No Sales or Production Decline or Other Basis.
97,043 | Love's Bakery, Inc | Honolulu, HI | No Shift in Production or Other Basis.
97,053 | Entergy Nuclear Operations, Inc | Covert, MI | No Shift in Production or Other Basis.
97,063 | Graham Packaging Company | Kansas City, MO | No Shift in Production or Other Basis.
97,075 | Swiss Re America Holding Corp. | Kansas City, MO | No Shift in Services or Other Basis.
97,075A | Swiss Re Management (US) Corp. | Armonk, NY | No Employment Decline or Threat of Separation or ITC.
97,075B | Westport Insurance Corp. | Kansas City, MO | No Employment Decline or Threat of Separation or ITC.
98,004 | The Miller Company | Meriden, CT | No Sales or Production Decline/Shift in Production (Domestic Transfer).
98,006 | AIG Technologies, Inc | Fort Worth, TX | Workers Do Not Produce an Article.
98,012 | Western Union | Denver, CO | Workers Do Not Produce an Article.
98,013 | Customer Engagement Services, LLC (CES) | Phoenix, AZ | Workers Do Not Produce an Article.
98,022 | Symbol Mattress of Florida, Inc | Kissimmee, FL | No Sales or Production Decline/Shift in Production (Domestic Transfer).
98,024 | NCR Corporation | Atlanta, GA | Workers Do Not Produce an Article.
98,025 | Oceana Foods, Inc | Shelby, MI | No Sales or Production Decline/Shift in Production (Domestic Transfer).
98,026 | Southern Graphics Systems, LLC | Minneapolis, MN | Workers Do Not Produce an Article.
98,027 | Rackspace USA, Inc | Windcrest, TX | Workers Do Not Produce an Article.
98,033 | LargeWords | Blue Springs, MO | Workers Do Not Produce an Article.
98,036 | NTT DATA Services, LLC | Plano, TX | Workers Do Not Produce an Article.
98,038 | Genpact LLC | Jacksonville, FL | Workers Do Not Produce an Article.
98,041 | Greystar Management Services, LLP | Phoenix, AZ | Workers Do Not Produce an Article.
98,043 | Rackspace USA, Inc | Elk Grove Village, IL | Workers Do Not Produce an Article.
98,046 | Revel Apparel, LLC | Greensboro, NC | No Import Increase and/or Production Shift Abroad.
98,048 | Computer Task Group, Inc | Boulder, CO | Workers Do Not Produce an Article.
98,048A | Computer Task Group, Inc | Buffalo, NY | Workers Do Not Produce an Article.

Determinations Terminating Investigations for Trade Adjustment Assistance

The following investigations were terminated for the reason(s) specified.

TA-W No. | Subject firm | Location | Reason(s)
97,050 | Honeywell International Inc | Smithfield, RI | Existing Certification in Effect.
97,096 | Frontier Communications | Deland, FL | Petitioner Requests Withdrawal.
97,106 | The News Journal | New Castle, DE | Ongoing Investigation in Process.
98,019 | Betsy & Adam/Xscape Evenings | New York, NY | Existing Certification in Effect.
98,021 | Commemorative Brands Inc | Austin, TX | Petitioner Requests Withdrawal.
98,047 | American Axle & Manufacturing (AAM) | Emporium, PA | Petitioner Requests Withdrawal.
98,051 | Computer Task Group, Inc | Buffalo, NY | Ongoing Investigation in Process.
98,057 | Tails To The Trails Dog Services | Caddo Mills, TX | Petitioner Requests Withdrawal.
98,060 | Northwest Hardwoods, Inc | Coos Bay, OR | Existing Certification in Effect.
98,063 | Mondelez Global, LLC. | Aurora, CO | Petitioner Requests Withdrawal.

Revised Certifications of Eligibility

The following revised certifications of eligibility to apply for TAA have been issued.

TA-W No. | Subject firm | Location | Reason(s)
95,840 | Northwest Hardwoods, Inc | Garibaldi, OR | Worker Group Clarification.
95,840A | Northwest Hardwoods, Inc | Coos Bay, OR | Worker Group Clarification.

Revised Determinations on Reconsideration

The following revised determinations on reconsideration, certifying eligibility to apply for TAA, have been issued.

TA-W No. | Subject firm | Location | Reason(s)
95,726 | IPSCO Koppel Tubulars, LLC | Ambridge, PA | Customer Imports of Articles.
95,726A | IPSCO Koppel Tubulars, LLC | Koppel, PA | Customer Imports of Articles.

Negative Determinations on Reconsideration

The following negative determinations on reconsideration have been issued because the eligibility criteria for TAA have not been met for the reason(s) specified.

TA-W No. | Subject firm | Location | Reason(s)
94,882 | AT&T Business—Global Operations & Services | Bellaire, TX | No Shift in Services or Other Basis.

I hereby certify that the aforementioned determinations were issued during the period of September 1, 2021 through September 30, 2021. These determinations are available on the Department's website https://www.dol.gov/agencies/eta/tradeact under the searchable listing determinations or by calling the Office of Trade Adjustment Assistance toll free at 888-365-6822.

Signed at Washington, DC, this 12th day of October 2021.
Hope D. Kinglock,
Certifying Officer, Office of Trade Adjustment Assistance.

[FR Doc. 2021-22989 Filed 10-20-21; 8:45 am]

BILLING CODE 4510-FN-P